NEIGHBORHOOD REINVESTMENT CORPORATION

Sunshine Act Meeting for the 31st Annual Board of Directors

Time and Date: 12:15 p.m., Wednesday, June 3, 2009.

Place: 1325 G Street, NW., Suite 800, Boardroom, Washington, DC 20005.

Status: Open.

Contact Person for More Information: Erica Hall, Assistant Corporate Secretary; (202) 220-2376; ehall@nw.org.

Agenda:

I. Call To Order.

II. Approval of the Minutes.

III. Summary Report of the Audit Committee.

IV. Summary Report of the Corporate Administration Committee.

V. Summary Report of the Finance, Budget and Program Committee.

VI. Board Appointments.

VII. Financial Report.

VIII. Corporate Scorecard.

IX. Chief Executive Officer's Quarterly Management Report.

X. Adjournment.

Erica Hall,
Assistant Corporate Secretary.

[FR Doc. E9-13140 Filed 6-2-09; 11:15 am]

BILLING CODE 7570-02-P